DEPARTMENT OF COMMERCE

National Oceanic and Atmospheric Administration

[I.D. 112503B]

Draft Strategic Plan for Fisheries Research (2004)

AGENCY: National Marine Fisheries Service (NMFS), National Oceanic and Atmospheric Administration (NOAA), Commerce.

ACTION: Notice of availability; request for comments.

SUMMARY: NMFS announces the availability of and seeks public comment on the draft NMFS Strategic Plan for Fisheries Research (2004). The Magnuson-Stevens Fishery Conservation and Management Act (MSFCMA) requires the Secretary of Commerce to develop, triennially, a strategic plan for fisheries research for the subsequent years. Any written comments on the draft plan will be considered by NMFS in the development of the final NMFS Strategic Plan for Fisheries Research (2004).

DATES: Comments on the draft NMFS Strategic Plan for Fisheries Research (2004) will be accepted on or before January 7, 2004.

ADDRESSES: Comments on and requests for copies of the draft NMFS Strategic Plan for Fisheries Research (2004) should be directed to Mark Chandler, Research, Analysis, and Coordination Division, Office of Science and Technology, NMFS, NOAA, 1315 East-West Highway, Silver Spring, MD 20910. PHONE: (301) 713-2363. FAX: (301) 713-1875.

Electronic Access: The draft NMFS Strategic Plan for Fisheries Research (2004) may be reviewed in its entirety on the World Wide Web at http://www.st.nmfs.gov/st2/index.html

FOR FURTHER INFORMATION CONTACT: Mark Chandler at 301-713-2363 ext. 152, e-mail: Mark.Chandler@noaa.gov

SUPPLEMENTARY INFORMATION: Section 404 of the MSFCMA requires the Secretary of Commerce to publish in the Federal Register a strategic plan for fisheries research for the 5 years immediately following it's publication. The MSFCMA requires that the plan address four major areas of research: (1) Research to support fishery conservation and management; (2) conservation engineering research; (3) research on the fisheries; and (4) information management research. The MSFCMA specifies that the plan shall contain a limited number of priority objectives for each of these research areas; indicate goals and timetables; provide a role for commercial fishermen in such research; provide for collection and dissemination of complete and accurate information concerning fishing activities; and be developed in cooperation with the Councils and affected states.

This draft plan is based upon and entirely consistent with the overarching NOAA Fisheries Strategic Plan (NFSP) recently released in July 2003. The objectives under each goal in the draft NMFS Strategic Plan for Fisheries Research (2004) correspond to strategies in the NFSP.

The scope of the NMFS Strategic Plan for Fisheries Research (2004) is solely fisheries research to support the MSFCMA. It does not include the regulatory and enforcement components of the NMFS mission. NMFS currently conducts a comprehensive program of fisheries research and involves industry and others interested in fisheries in planning and implementing its objectives.

NMFS intends that the final version of the NMFS Strategic Plan for Fisheries Research (2004) will take advantage of information and recommendations from all interested parties. Therefore, comments and suggestions on this draft NMFS Strategic Plan for Fisheries Research are hereby solicited from the public, other concerned government agencies, the scientific community, industry, and any other person.

Dated: November 25, 2003.
Dr. William Fox, Jr.,
Director, Office of Science and Technology, National Marine Fisheries Service.

[FR Doc. 03-30381 Filed 12-5-03; 8:45 am]

BILLING CODE 3510-22-S